DEPARTMENT OF DEFENSE

GENERAL SERVICES ADMINISTRATION

NATIONAL AERONAUTICS AND SPACE ADMINISTRATION

[Notice-MVC-2014-01; Docket No. 2014-0054; Sequence 1]

Expanded Reporting of Nonconforming Items

AGENCY: Department of Defense (DoD), General Services Administration (GSA), and National Aeronautics and Space Administration (NASA).

ACTION: Notice of meeting.

SUMMARY: DoD, GSA and NASA are hosting a public meeting to obtain the views of experts and interested parties in Government and the private sector regarding expanded reporting of nonconforming items.

DATES: Monday, June 16, 2014, from 1:00 p.m. to 5:00 p.m., Eastern Standard Time.

ADDRESSES: The public meeting will be held at the National Aeronautics and Space Administration Headquarters Auditorium, 300 E Street SW., Washington, DC 20546. The visitor's entrance is on the West side of the building.

Submit presentations in response to Notice-MVC-2014-01 by any of the following methods:

FOR FURTHER INFORMATION CONTACT: Mr. Edward Loeb, GSA, at 202-501-0650 or email Edward.Loeb@gsa.gov. Please cite Notice-MVC-2014-01; Public Meeting—Expanded Reporting of Nonconforming Items.

SUPPLEMENTARY INFORMATION: DoD, GSA and NASA are interested in conducting a dialogue with experts and interested parties in Government and the private sector about expanded reporting of nonconforming items in the existing Government-Industry Data Exchange Program (GIDEP) operated by the Department of Defense. Expanded GIDEP reporting of nonconforming items is expected to mitigate the growing threat that counterfeit items pose and to reduce the risk of counterfeit items entering the supply chain.

Such expanded reporting would build on existing contractor inspection system requirements, utilizing existing terminology, and would add a requirement for contractors to report to the GIDEP database a counterfeit item, a suspect counterfeit item, or an item that contains a major or critical nonconformance that is a common item and that constitutes a quality escape that has resulted in the release of like nonconforming items to more than one customer. GIDEP has been in existence for over two decades and has a Web site at www.gidep.org.

Such expanded reporting of nonconforming items would partially implement section 818 of the National Defense Authorization Act for Fiscal Year 2012 and implement requirements of the Office of Federal Procurement Policy Policy Letter 91-3, entitled “Reporting Nonconforming Products,” dated April 9, 1991.

Pre-Registration: The public is asked to pre-register by June 10, 2014, due to security and seating limitations. To pre-register, please send an email to Edward Loeb of the General Services Administration (GSA) at Edward.Loeb@gsa.gov. The pre-registration request should include the first and last name of the attendee(s), and, if applicable, company or organization name. Registration check-in will begin at 12:00 p.m., and the meeting will start at 1:00 p.m. and conclude by 5:00 p.m., eastern standard time. Attendees must be prepared to present a form of government issued photo identification. Attendees are encouraged to arrive at least 30 minutes early to accommodate security procedures.

If you wish to make a presentation, please submit an electronic copy of your presentation (not greater than 19 MB) to Edward.Loeb@gsa.gov no later than June 12, 2014. When submitting presentations, provide presenter's name, organization affiliation, telephone number, and email address on the cover page. Please submit presentations only and cite “Public Meeting—Expanded Reporting of Nonconforming Items” in all correspondence related to the public meeting. There will be no transcription of the meeting. The submitted presentations will be the only record of the public meeting. All presentations received will be posted without change to http://www.regulations.gov, including any personal and/or business confidential information provided. Time allocations for oral presentations will be limited to five minutes.

Meeting Accommodations: The public meeting is physically accessible to people with disabilities. Request for sign language interpretation or other auxiliary aids should be directed to Mr. Edward Loeb by June 10, 2014.

The TTY number for further information is: 1-800-877-8339. When the operator answers the call, let them know the agency is the General Services Administration; the point-of-contact is Mr. Edward Loeb.

Dated: May 12, 2014.
William Clark,
Acting Director, Office of Government-Wide Acquisition Policy, Office of Acquisition Policy, Office of Government-wide Policy.

[FR Doc. 2014-11225 Filed 5-14-14; 8:45 am]

BILLING CODE 6820-14-P